DEPARTMENT OF THE INTERIOR

Fish and Wildlife Service

Information Collection to be Submitted to the Office of Management and Budget (OMB) for Approval Under the Paperwork Reduction Act

AGENCY: Fish and Wildlife Service, Interior.

ACTION: Notice of Intent To Request Information Collection Authority.

SUMMARY: We, the U.S. Fish and Wildlife Service, will be submitting to the OMB the collection of information described for approval under the provisions of the Paperwork Reduction Act of 1995. Copies of specific information collection requirements and explanatory material may be obtained by contacting our Information Collection Clearance Officer at the address or phone number listed below.

DATES: You must submit comments on or before April 16, 2001.

ADDRESSES: Your comments and suggestions on specific requirements should be sent to our Information Collection Clearance Officer, U.S. Fish and Wildlife Service, MS 222, ARLSQ, 1849 C Street, NW, Washington, D.C. 20240; Telephone 703/358-1943.

FOR FURTHER INFORMATION CONTACT: Jeffrey L. Horwath, Division of Fish and Wildlife Management Assistance and Habitat Restoration, Arlington, Virginia, at 703/358-1718.

SUPPLEMENTARY INFORMATION: We propose to submit the following information collection clearance requirements to the OMB for review and approval under the Paperwork Reduction Act of 1995, Pub. L. 104-13. We currently have OMB approval #1018-0070, which expires 10/31/01. Your comments are invited on: (1) Whether this collection of information is necessary for us to properly perform our functions, including whether this information will have practical utility; (2) the accuracy of our estimate of burden, including the validity of the methodology and assumptions we use; (3) ways to enhance the quality, utility, and clarity of the information we are proposing to collect; and (4) ways to minimize the burden of the collection of information on those who are to respond, including through the use of appropriate automated, electronic, mechanical, or other technological collection techniques or other forms of information technology. An agency may not conduct or sponsor, and a person is not required to a collection of information unless the agency displays a currently valid OMB control number.

Section 101(a)(5)(A) of the Marine Mammal Protection Act of 1972 authorizes us, acting on behalf of the Secretary of the Interior, to allow the incidental, unintentional take of small numbers of marine mammals during a specified activity (other than commercial fishing) in a specified geographic region. Prior to allowing these takes, however, we must find that the total of such taking will have a negligible impact on the species or stocks, and will not have an unmitigable adverse impact on the availability of the species or stocks for subsistence uses by Alaska Natives.

The information that we propose to collect will be used to evaluate applications for specific incidental take regulations from the oil and gas industry to determine whether such regulations, and subsequent Letters of Authorization (LOA), should be issued; the information is needed to establish the scope of specific incidental take regulations. The information is also required to evaluate the impacts of the activities on the species or stocks of the marine mammals and on their availability for subsistence uses by Alaska Natives. It will ensure that all available means for minimizing the incidental take associated with a specific activity are considered by applicants.

We estimate that the burden associated with the request will be a total of 3,140 hours for the full 3-year period of OMB authorization. Two hundred hours will be required to complete the request for specific procedural regulations. For each LOA expected to be requested and issued subsequent to issuance of specific procedural regulations, we estimate that 20 hours will be invested: 8 hours will be required to complete each request for a LOA, 4 hours will be required for on-site monitoring activities, and 8 hours will be required to complete each final monitoring report. We estimate that seven companies will be requesting LOAs and submitting monitoring reports annually for each of seven sites in the region covered by the specific regulations.

Title: Marine Mammals: Incidental Take During Specified Activities.

Bureau form number: None.

Frequency of collection: Biannually.

Description of respondents: Oil and gas industry companies.

Number of respondents: 7 for each of 7 active sites per year (49).

Estimated completion time: For the one time request to promulgate the procedural rule, a 200-hour application burden is estimated. Annually for three years, 8 hours per LOA, 4 hours for on-site monitoring, and 8 hours per final monitoring reports are estimated for each requesting company for seven active sites (20 hours × 7 companies × 7 sites = 980 hours × 3 years = 2,940 &plus; 200 = 3,140 hours burden for three years).

Burden estimate: 3,140 hours.

Dated: February 9, 2001.
Rebecca A. Mullin,
Information Collection Officer, U.S. Fish and Wildlife Service.

[FR Doc. 01-3735 Filed 2-13-01; 8:45 am]

BILLING CODE 4310-55-M